LEGAL SERVICES CORPORATION

Legal Services Corporation Strategic Plan Update 2017-2020; Request for Comments

AGENCY: Legal Services Corporation.

ACTION: Request for comments.

SUMMARY: The Legal Services Corporation (“LSC”) Board of Directors (“Board”) is in the process of revising the 2012-2016 LSC Strategic Plan (“Plan”) and is seeking comments on the draft 2017-2020 LSC Strategic Plan. The LSC Board previously sought comments on its Plan, including comments on whether the existing goals are appropriate and attainable and whether new goals should be added or substituted. After receiving comments and recommendations from stakeholders, LSC now solicits comments on the proposed revisions to the Plan for 2017-2020.

DATES: All comments must be received on or before the close of business on September 6, 2016.

ADDRESSES: You may submit comments by any of the following methods:

• Agency Web site: http://www.lsc.gov/contact-us. Follow the instructions for submitting comments on the Web site.

• Email: lscstrategicplan@lsc.gov.

• Fax: (202) 337-6813.

• Mail: Legal Services Corporation, 3333 K Street NW., Washington, DC 20007.

Instructions: All comments should be addressed to Rebecca Fertig Cohen, Chief of Staff, Legal Services Corporation. Include “2017-2020 Strategic Plan Update” as the heading or subject line for all comments submitted.

FOR FURTHER INFORMATION CONTACT: Rebecca Fertig Cohen, cohenr@lsc.gov, (202) 295-1576.

SUPPLEMENTARY INFORMATION: As an entity created and funded by Congress, LSC has a duty to the American people to pursue its fundamental mission of equal access to justice. With this primary goal in mind, the LSC Board adopted a plan in 2012 setting forth the strategic goals that would guide LSC for five years, ending in 2016. The LSC Board is now in the process of updating and revising the strategic plan for an additional four-year period. As part of this process, the LSC Board sought input from the public and interested stakeholders on whether the goals articulated in the current LSC strategic plan for 2012-2016 are still suitable and timely and whether new goals, if any, should be considered. 81 FR 3836, Jan. 29, 2016.

Based on the feedback received from stakeholders, LSC proposes to continue working on the three goals identified in the 2012-2016 Strategic Plan over the next four years with only minor changes in focus. The three goals in the 2017-2020 strategic plan are:

1. Maximize the availability, quality, and effectiveness of the services LSC's grantees provide to eligible low-income individuals.

2. Expand the role of LSC as a convener and leading voice for civil legal services for low-income Americans.

3. Continue to achieve the highest standards of management for LSC and its grantees to sustain a capable, responsive, and accountable organization.

The full proposed Strategic Plan Update 2017-2020 is available at https://lsc-live.box.com/v/LSC-StrategicPlan-July2016.

Dated: July 29, 2016.
Stefanie K. Davis,
Assistant General Counsel.

[FR Doc. 2016-18478 Filed 8-3-16; 8:45 am]

BILLING CODE 7050-01-P